DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping and countervailing duty orders and findings with May anniversary dates. In accordance with Commerce's regulations, we are initiating those administrative reviews.

DATES: Applicable July 15, 2019.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various antidumping and countervailing duty orders and findings with May anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this antidumping proceeding (e.g., investigation, administrative review, new shipper review or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Status Application will be available on Commerce's website at http://enforcement.trade.gov/nme/nme-sep-rate.html on the date of publication of this Federal Register notice. In responding to the Separate Rate Status Application, refer to the instructions contained in the application. Separate Rate Status Applications are due to Commerce no later than 30 calendar days of publication of this Federal Register notice. The deadline and requirement for submitting a Separate Rate Status Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than May 31, 2020.

| Period to be reviewed
Antidumping Duty Proceedings
Austria: Carbon and Alloy Steel Cut-To-Length Plate, A-433-812 | 5/1/18-4/30/19
voestalpine Böhler Bleche GmbH & Co KG
voestalpine Böhler Edelstahl GmbH & Co KG
Belgium: Certain Carbon and Alloy Steel Cut-To-Length, A-423-812 | 5/1/18-4/30/19
NLMK Clabecq S.A.
NLMK Sales Europe S.A
NLMK Plate Sales S.A.
NLMK Manage Steel Center S.A.
NLMK La Louviere S.A
Stahlo Stahl Service GmbH & Co. KG
Tranter Service Centers
Industeel Belgium S.A
Canada: Citric Acid and Citrate Salt, A-122-853 | 5/1/18-4/30/19
Jungbunzlauer Canada Inc.
Canada: Polyethylene Terephthalate Resin, A-122-855 | 5/1/18-4/30/19
Compagnie Selenis Canada
India: Certain Welded Carbon Steel Standard Pipes and Tubes, A-533-502 | 5/1/18-4/30/19
Apl Apollo Tubes Ltd.
Asian Contec Ltd.
Bhandari Foils & Tubes Ltd.
Bhushan Steel Ltd.
Blue Moon Logistics Pvt. Ltd.
CH Robinson Worldwide
Ess-Kay Engineers, Manushi Enterprise & Nishi Boring Corporation
Fiber Tech Composite Pvt. Ltd.
Garg Tube Export LLP
GCL Private Limited
Goodluck India Ltd.
GVN Fuels Ltd.
Hydromatik
Jindal Quality Tubular Ltd.
KLT Automatic & Tubular Products Ltd.
Lloyds Line Pipes Ltd.
MARINEtrans India Private Ltd.
Patton International Ltd.
Raajratna Ventures Ltd.
Ratnamani Metals & Tubes Ltd.
SAR Transport Systems Pvt. Ltd.
Surya Global Steel Tubes Ltd.
Surya Roshni Ltd.
Vallourec Heat Exchanger Tubes Ltd.
Welspun India Ltd.
Zenith Birla (India) Ltd.
Zenith Birla Steels Private Ltd.
Zenith Dyeintermediates Ltd
Italy: Carbon and Alloy Steel Cut-To-Length Plate, A-475-834 | 5/1/18-4/30/19
Lyman Steel Company
NLMK Verona SpA
O.ME.P SpA
ofar SpA
officine Tecnosider s.r.l.
Sesa SpA
Tim-Cop Doo Temerin
Japan: Carbon and Alloy Steel Cut-To-Length Plate, A-588-875 | 5/1/18-4/30/19
Hitachi Metals, Ltd.
Japan: Diffusion-Annealed Nickel-Plated Flat Rolled Steel Products, A-588-869 | 5/1/18-4/30/19
Toyo Kohan Co., Ltd.
Oman: Polyethylene Terephthalate Resin, A-523-810 | 5/1/18-4/30/19
OCTAL SAOC-FZC
Republic of Korea: Carbon and Alloy Steel Cut-To-Length Plate, A-580-887 | 5/1/18-4/30/19
Buma Ce Co., Ltd.
Dong Yang Steel Pipe Co., Ltd.
Dongkuk Steel Mill Co., Ltd.
Expeditors Korea Ltd
Haem Co., Ltd.
Hyundai Glovis Co., Ltd.
Hyundai Steel Company
J.I. Sea & Air Express Co., Ltd.
Maxpeed Co., Ltd.
POSCO/POSCO Daewoo Corporation/POSCO Processing & Service Co., Ltd.⁵
Ramses Logistics Co., Ltd.
Sumitomo Corp. Korea Ltd.
Republic of Korea: Carbon and Alloy Steel Wire Rod, A-580-891 | 10/31/17-4/30/19
POSCO
Republic of Korea: Ferrovanadium, A-580-886 | 5/1/18-4/30/19
Korvan Ind. Co., Ltd
Fortune Metallurgical Group Co., Ltd.
Woojin Ind. Co., Ltd
Republic of Korea: Polyester Staple Fiber, A-580-839 | 5/1/18-4/30/19
Huvis Corporation
Toray Chemical Korea, Inc.
Taiwan: Carbon and Alloy Steel Cut-To-Length Plate, A-583-858 | 5/1/18-4/30/19
Broad Hand Enterprise Co., Ltd
C.H. Robinson Freight Services
China Steel Corporation
Chun Chi Grating Co., Ltd.
Eci Taiwan Co., Ltd.
Locksure Inc
Nan Hoang Traffic Instrument Co
New Marine Consolidator Co., Ltd.
North America Mining Group Co., Ltd.
Oriental Power Logistics Co., Ltd.
Product Depot International Corp.
Scanwell Logistics (Taiwan)
Shang Chen Steel Co., Ltd.
Shin Yang Steel Co., Ltd
Shye Yao Steel Co., Ltd
Speedmark Consolidation
Sumeeko Industries Co., Ltd.
Triple Merits Ltd.
Ukl Enterprise Co., Ltd.
Taiwan: Certain Circular Welded Carbon Steel Pipes and Tubes, A-583-008 | 5/1/18-4/30/19
Chite Enterprises Co., Ltd.
Chung Hung Steel Corp.
Far East Machinery Group
Far East Machinery Co., Ltd.
Fine Blanking & Tool Co., Ltd.
Froch Enterprises
Kao Hsing Chang Iron & Steel Corp.
Hou Lih Co., Ltd.
Locksure Inc.
Lang Hwang Corp.
Pacific Star Express
Pat & Jeff Enterprise Co., Ltd.
Pin Tai Metal Inc.
New Chance Products Co., Ltd.
Shanghai TR Steel Building Products Co., LTD.
Shang Jouh Industrial Co., Ltd.
Shengyu Steel Co., Ltd.
Shin Yang Steel Co., Ltd.
Shuan Hwa Industrial Co., Ltd
Ta Chen Stainless Pipe Co., Ltd.
Tension Steel Industries Co., Ltd.
Titan Fastech Ltd.
YC Inox Co., Ltd.
Yeong Shien Industrial Co., Ltd.
Yieh Hsing Enterprise Co., Ltd.
Yousing Precision Industry Co., Ltd.
Yujin Steel Industry Co., Ltd.
Taiwan: Stilbenic Optical Brightening Agents, A-583-848 | 5/1/18-4/30/19
Teh Fong Min International Co., Ltd.
The People's Republic of China: 1-Hydroxyethylidene-1, 1-Diphosphonic Acid (HEDP), A-570-045 | 5/1/18-4/30/19
Henan Qingshuiyuan Technology Co., Ltd.
Nantong Uniphos Chemicals Co., Ltd.
Nanjing University of Chemical Technology Changzhou Wujin Water Quality Stabilizer Factory
The People's Republic of China: Aluminum Extrusions, A-570-967 | 5/1/18-4/30/19
Activa International Inc.
Activa Leisure Inc.
Aero Import and Export Co.
Agilent Technologies Co. Ltd (China)
Allied Maker Limited
Alnan Aluminum Co., Ltd.
Alnan Aluminum Ltd.
Aluminicaste Fundicion de Mexico
AMC Limited
AMC Ltd.
Anji Chang Hong Chain Manufacturing
Anshan Zhongjda Industry Co., Ltd
Aoda Aluminium (Hong Kong) Co., Limited
AsiaAlum Group
Atlas Integrated Manufacturing Ltd.
Bath Fitter
Behr-Hella Thermocontrol (Shanghai) Co. Ltd.
Belton (Asia) Development Limited
Belton (Asia) Development Ltd.
Birchwoods (Lin' an) Leisure Products Co., Ltd.
Bolnar Hong Kong Ltd.
Bracalente Metal Products (Suzhou) Co., Ltd.
Brilliance General Equipment Co., Ltd.
Chang shu Chang sheng Aluminum Products Co., Ltd.
Chang shu Changshen Aluminum Products Co., Ltd.
Changzhou Changzhen Evaporator Co., Ltd.
Changzhou Changzheng Evaporator Co., Ltd.
Changzhou Tenglong Auto Accessories Manufacturing Co. Ltd
Changzhou Tenglong Auto Parts Co Ltd
Changzhou Tenglong Auto Parts Co., Ltd.
China Square
China Square Indusrial Ltd
China Square Industrial Co.
China Zhoungwang Holdings, Ltd.
Chiping One Stop Industrial & Trade Co., Ltd.
Classic & Comtemporary Inc.
Clear Sky Inc.
Colclisa S.A. de C.V.
Cosco (J.M.) Aluminum Co., Ltd.
Cosco (JM) Aluminum Development Co. Ltd.
CRRC Changzhou Auto Parts Co., Ltd.
Dalian Huachange Aquatic Products
Dalian Liwang Trade Co., Ltd.
Danfoss Micro Channel Heat Exchanger (Jia Xing) Co., Ltd.
Daya Hardware Co Ltd
Dongguan Aoda Aluminum Co., Ltd.
Dongguan Dazhan Metal Co., Ltd.
Dongguan Golden Tiger Hardware Industrial Co., Ltd.
Dongguang Aoda Aluminum Co., Ltd.
Dragonluxe Limited
Dynabright International Group (HK) Ltd.
Dynamic Technologies China
ETLA Technology (Wuxi) Co. Ltd
Ever Extend Ent. Ltd.
Fenghua Metal Product Factory
First Union Property Limited
FookShing Metal & Plastic Co. Ltd.
Foreign Trade Co. of Suzhou New & High-Tech Industrial Development Zone
Foshan City Nanhai Hongjia Aluminum Alloy Co., Ltd.
Foshan Golden Source Aluminum Products Co., Ltd.
Foshan Guangcheng Aluminium Co., Ltd
Foshan Jinlan Aluminum Co. Ltd.
Foshan JinLan Aluminum Co., Ltd.
Foshan JMA Aluminum Company Limited
Foshan Nanhai Niu Yuan Hardware Product Co., Ltd.
Foshan Shanshui Fenglu Aluminum Co., Ltd.
Foshan Shunde Aoneng Electrical Appliances Co., Ltd
Foshan Yong Li Jian Aluminum Co., Ltd.
Fujian Sanchuan Aluminum Co., Ltd.
Fukang Aluminum & Plastic Import and Export Co., Ltd.
Fuzhou Sunmodo New Energy Equipment
Gaotang Xinhai Economy & Trade Co., Ltd.
Genimex Shanghai, Ltd.
Global Hi Tek Precision Co. Ltd
Global PMX Dongguan Co., Ltd.
Global Point Technology (Far East) Limited
Gold Mountain International Development, Ltd.
Golden Dragon Precise Copper Tube Group, Inc.
Gran Cabrio Capital Pte. Ltd.
Gree Electric Appliances
Green Line Hose & Fittings
GT88 Capital Pte. Ltd.
Guang Ya Aluminium Industries (HK) Ltd.
Guang Ya Aluminium Industries Co. Ltd.
Guang Ya Aluminum Industries Company Ltd
Guangcheng Aluminum Co., Ltd
Guangdong Hao Mei Aluminum Co., Ltd.
Guangdong Jianmei Aluminum Profile Company Limited
Guangdong JMA Aluminum Profile Factory (Group) Co., Ltd.
Guangdong Midea
Guangdong Midea Microwave and Electrical Appliances
Guangdong Nanhai Foodstuffs Imp. & Exp. Co., Ltd.
Guangdong Weiye Aluminum Factory Co., Ltd.
Guangdong Whirlpool Electrical Appliances Co., Ltd.
Guangdong Xin Wei Aluminum Products Co., Ltd.
Guangdong Xingfa Aluminum Co., Ltd.
Guangdong Yonglijian Aluminum Co., Ltd.
Guangdong Zhongya Aluminum Company Ltd.
Guangzhou Jangho Curtain Wall System Engineering Co., Ltd.
Guangzhou Mingcan Die-Casting Hardware Products Co., Ltd.
Hangzhou Xingyi Metal Products Co., Ltd.
Hanwood Enterprises Limited
Hanyung Alcoba Co., Ltd.
Hanyung Alcobis Co., Ltd.
Hanyung Metal (Suzhou) Co., Ltd.
Hao Mei Aluminum Co., Ltd.
Hao Mei Aluminum International Co., Ltd.
Hebei Xusen Wire Mesh Products Co., Ltd.
Henan New Kelong Electrical Appliances Co., Ltd.
Henan Zhongduo Aluminum Magnesium New Material Co, Ltd.
Hitachi High-Technologies (Shanghai) Co., Ltd.
Hong Kong Gree Electric Appliances Sales Limited
Hong Kong Modern Non-Ferrous Metal
Honsense Development Company
Hui Mei Gao Aluminum Foshan Co., Ltd.
Huixin Aluminum
IDEX Dinglee Technology (Tianjin) Co., Ltd.
IDEX Health
IDEX Technology Suzhou Co., Ltd.
Innovative Aluminum (Hong Kong) Limited
iSource Asia
Jackson Travel Products Co., Ltd.
Jangho Curtain Wall Hong Kong Ltd.
Jiangmen Jianghai District Foreign Economic Enterprise Corp. Ltd.
Jiangmen Jianghai Foreign Ent. Gen.
Jiangmen Qunxing Hardware Diecasting Co., Ltd.
Jiangsu Changfa Refrigeration Co.
Jiangyin Suncitygaylin
Jiangyin Trust International Inc.
Jiangyin Xinhong Doors and Windows Co., Ltd.
Jiaxing Jackson Travel Products Co., Ltd.
Jiaxing Taixin Metal Products Co., Ltd.
Jiuyan Co., Ltd.
JMA (HK) Company Limited
Johnson Precision Engineering (Suzhou) Co., Ltd.
Justthere Co., Ltd.
Kam Kiu Aluminum Products Sdn Bhd
Kanel Precision Aluminum Product Co., Ltd
Kartlon Aluminum Company Ltd
Kong Ah International Company Limited
Kromet International
Kromet International Inc.
Kromet Intl Inc
Kunshan Giant Light Metal Technology Co., Ltd.
Liaoning Zhong Da Industrial Aluminum Co., Ltd.
Liaoning Zhongwang Group Co., Ltd.
Liaoyang Zhongwang Aluminum Profile Co. Ltd.
Longkou Donghai Trade Co., Ltd.
MAAXBathInc.
MAHLE Holding (China) Co., Ltd
Metal Tech Co Ltd
Metaltek Group Co., Ltd.
Metaltek Metal Industry Co., Ltd.
Midea Air Conditioning Equipment Co., Ltd.
Midea Electric Trading Co., Pte Ltd
Midea International Trading Co., Ltd.
Midea International Training Co., Ltd.
Miland Luck Limited
Nanhai Textiles Import & Export Co., Ltd.
New Asia Aluminum & Stainless Steel Product Co., Ltd.
New Zhongya Aluminum Factory
Nidec Sankyo (Zhejang) Corporation
Nidec Sankyo Singapore Pte. Ltd.
Nidec Sankyo Zhejiang Corporation
Ningbo Coaster International Co., Ltd.
Ningbo Hi Tech Reliable Manufacturing Company
Ningbo Innopower Tengda Machinery
Ningbo Ivy Daily Commodity Co., Ltd.
Ningbo Yili Import and Export Co., Ltd.
North China Aluminum Co., Ltd.
North Fenghua Aluminum Ltd.
Northern States Metals
PanAsia Aluminum (China) Limited
PENCOM Dongguan China
Pengcheng Aluminum Enterprise Inc.
Permasteelisa Hong Kong Limited
Permasteelisa South China Factory
Pingguo Aluminum Company Limited
Pingguo Asia Aluminum Co., Ltd.
Popular Plastics Company Limited
Precision Metal Works Ltd.
Press Metal International Ltd.
Qingdao Sea Nova Building
Samuel, Son & Co., Ltd.
Sanchuan Aluminum Co., Ltd.
Sanhua (Hangzhou) Micro Channel Heat Exchanger Co., Ltd
Shandong Fukang Aluminum & Plastic Co. LTD
Shandong Huajian Aluminum Group
Shangdong Huasheng Pesticide Machinery Co.
Shangdong Nanshan Aluminum Co., Ltd.
Shanghai Automobile Air Conditioner Accessories Ltd.
Shanghai Automobile AirConditioner Accessories Co Ltd
Shanghai Canghai Aluminum Tube Packaging Co., Ltd
Shanghai Dofiberone Composites Co. Ltd.
Shanghai Dongsheng Metal
Shanghai Shen Hang Imp & Exp Co., Ltd.
Shanghai Tongtai Precise Aluminum Alloy Manufacturing Co. Ltd.
Shanghai Top-Ranking Aluminum Products Co., LTD
Shanghai Top-Ranking New Materials Co., Ltd.
Shenyang Yuanda Aluminum Industry Engineering Co. Ltd.
Shenzhen Hudson Technology Development Co.
Shenzhen Jiuyuan Co., Ltd.
Sihui Shi Guo Yao Aluminum Co., Ltd.
Sincere Profit Limited
Skyline Exhibit Systems (Shanghai) Co. Ltd.
Southwest Aluminum (Group) Co., Ltd.
Springs Window Fashions De Victoria
Summit Heat Sinks Metal Co, Ltd
Summit Plastics Nanjing Co. Ltd
Suzhou JRP Import & Export Co., Ltd.
Suzhou New Hongji Precision Part Co.
Tai-Ao Aluminum (Taishan) Co. Ltd.
Taishan City Kam Kiu Aluminium Extrusion Co., Ltd.
Taitoh Machinery Shanghai Co Ltd
Taizhou Lifeng Manufacturing Co., Ltd.
Taizhou United Imp. & Exp. Co., Ltd.
tenKsolar (Shanghai) Co., Ltd.
Tianjin Ganglv Nonferrous Metal Materials Co., Ltd.
Tianjin Jirunao Import & Export Corp., Ltd.
Tianjin Ruxin Electric Heat Transmission Technology Co., Ltd.
Tianjin Xiandai Plastic & Aluminum Products Co., Ltd.
Tiazhou Lifeng Manufacturing Corporation
Top-Wok Metal Co., Ltd.
Traffic Brick Network, LLC
Union Aluminum (SIP) Co.
Union Industry (Asia) Co., Ltd.
USA Worldwide Door Components (Pinghu) Co., Ltd.
Wenzhou Shengbo Decoration & Hardware
Wenzhou Yongtai Electric Co., Ltd.
Whirlpool (Guangdong)
Whirlpool Canada L.P.
Whirlpool Microwave Products Development Ltd.
Wonjin Autoparts
Worldwide Door Components, Inc.
WTI Building Products, Ltd.
Wuxi Lutong Fiberglass Doors Co., Ltd,
Xin Wei Aluminum Co.
Xin Wei Aluminum Company Limited
Xinchang Y ongqiang Air Conditioning Accessories Co., Ltd.
Xinya Aluminum & Stainless Steel Product Co., Ltd.
Yuyao Fanshun Import & Export Co., Ltd.
Yuyao Haoshen Import & Export
Zahoqing China Square Industry Limited
Zhaoqing Asia Aluminum Factory Company Ltd.
Zhaoqing China Square Industrial Ltd.
Zhaoqing China Square Industry Limited
Zhaoqing New Zhongya Aluminum Co., Ltd.
Zhejiang Anji Xinxiang Aluminum Co., Ltd.
Zhejiang Lilies Industrial and Commercial Co
Zhejiang Yili Automobile Air Condition Co., Ltd
Zhejiang Yongkang Listar Aluminum Industry Co., Ltd.
Zhejiang Zhengte Group Co., Ltd.
Zhenjiang Xinlong Group Co., Ltd.
Zhongshan Daya Hardware Co., Ltd.
Zhongshan Gold Mountain Aluminum Factory Ltd.
Zhongya Shaped Aluminum (HK) Holding Limited
Zhuhai Runxingtai Electrical Equipment Co., Ltd.
The People's Republic of China: Certain Amorphous Silica Fabric,⁶ A-570-038 | 3/1/18-2/28/19
Beijing Landingji Engineering Tech Co., Ltd.
Haining Jiete Fiberglass Fabric Co., Ltd.
Nanjing Tianyuan Fiberglass Material Co., Ltd.
Wallean Industries Co., Ltd.
Zibo Yao Xing Fire-Resistant and Heat Preservation Material Co., Ltd.
The People's Republic of China: Oil Country Tubular Goods, A-570-943 | 5/1/18-4/30/19
American Tubular Products, LLC
Anhui Baitai Steel Industry Co., Ltd.
Anhui Tianda Oil Pipe Co., Ltd.
Anhui Yingsheng Steel Pipe Manufacturing Co., Ltd.
Baofeng Steel Group Co., Ltd.
Baoshan Iron & Steel Co., Inc.
Baosteel Group Corporation
Baotou Gangxing Industrial Group (HU)
Beijing Hengyin Machinery Manufacturing Co., Ltd.
Benxi Northern Steel Pipes Co., Ltd.
Bestar Steel Co., Ltd.
Chang Zhou Yu Chen International Trade Co., Ltd.
Changshu Walsin Specialty Steel Co., Ltd.
Changxing Tianying Import and Export Co., Ltd.
Changzhou Changbao Precision & Special Steel Tubes Co., Ltd.
Delmar International (HK) Ltd.
Dexin Steel Tube (China) Co., Ltd.
Dongying Kechuang Petroleum Equipment Co., Ltd
E-Heng Import And Export Co., Ltd.
Ez Steel Industrial Co., Ltd.
Fangzheng Valve Group Shanghai
Faray Petroleum Steel Pipe Co., Ltd.
Foshan Broad Ocean Intl. Co., Ltd.
Freet Petroleum Equipment Co., Ltd.
Gaoyou Huaxing Petroleum Pipe
Henan Dongfanglong Machine Manufacturing
Henan Steel Guang International Trade Co., Ltd.
Hengyang Hong Yuan Pipe Industry
Hengyang Hongda Special Steel Tube Co., Ltd.
Hengyang Steel Tube Group International Trading Inc.
Hong Yue Stainless Steel Ltd.
Hubei Xinyegang Steel Co., Ltd.
Huludao City Steel Pipe Industrial Co., Ltd.
Jiangsu Changbao Precision Steel Tube Co., Ltd.
Jiangsu Changbao Steel Tube Co., Ltd.
Jiangsu Changbao Steel Tubulars Corp.
Jiangsu Changbao Taobang Petroleum Pipe Co., Ltd.
Jiangsu Chengde Steel Pipe Share Co., Ltd.
Jiangsu FH Tube Industry Co., Ltd.
Jiangsu Hongyi Steel Pipe Co., Ltd.
Jiangsu Jindi Special Steel Co., Ltd.
Jiangsu Jinguan Special Steel Pipe Co., Ltd.
Jiangsu Wujin Stainless Steel Pipe
Jiangsu Xiongyue Petroleum Machinery Equipment Manufacture Co., Ltd.
Jiangsu Xiongyue Petroleum Mechanical Equipment Manufacturing Co., Ltd.
Jianhu Jielin Petrochemical Machinery Co., Ltd.
Jiaxing MT Stainless Steel Co., Ltd.
Jiaxing Usui Tsurumi Precision Tube Industry Co., Ltd.
Jun Yi Coated Pipe Co., Ltd.
JW Steel Limited
Lord Steel International Co., Ltd.
Mulmic Precision Manufacturing Co., Ltd.
Ningbo Master Weld-Cut Industry Co., Ltd.
Omprs Group Co., Ltd.
Ronsberg Steel Group Ltd.
Shaanxi Newland Industrial Corp.
Shandong Dongbao Steel Pipe Co., Ltd.
Shandong Jianning Metals Co., Ltd.
Shandong Molong Petroleum Machinery Co., Ltd.
Shandong Yonglijinggong Petroleum Equipment Co., Ltd.
Shanghai AOZE Petroleum Equipment Co., Ltd.
Shanghai Baoyi Steel Pipe Limited
Shanghai Crystal Palace Pipe Co., Ltd.
Shanghai Handun Trading Co., Ltd.
Shanghai Huagang Stainless Steel Co., Ltd.
Shanghai Jinchang International Trade Co., Ltd.
Shanghai Juxing Industrial Co., Ltd.
Shanghai Maxmount Special Steel Co., Ltd.
Shanghai Sishun Machinery Co., Ltd.
Shanghai Tsingshan Mineral Co., Ltd.
Shanghai Wogi Industrial Co., Ltd.
Shanghai Xuntian International Trade Co., Ltd.
Shanghai Yijing Import Export Co., Ltd.
Shanghai Yuecai Steel Pipe Co., Ltd.
Shangshang Desheng Group Co., Ltd.
Shengli Oilfield Highland Petroleum Equipment Co., Ltd.
Shengli Oilfield Shengji Petroleum Equipment Co., Ltd.
Shenzhen Chiwan Sembawang Engineering Co., Ltd.
Shijiazhuang Dodgesun I/E Corp., Ltd.
Shinda (Tangshan) Creative Oil & Gas Equipment Co., Ltd.
Sichuan Y&J Industries Co., Ltd.
Suzhou Douson Drilling & Production Equipment Co., Ltd.
Suzhou Foster International Co., Ltd.
Taixing Qitai Mechanical Foundry Co., Ltd.
Taiyuan Huaye Equipment Research Institute Co., Ltd.
Taizhou Chengde Steel Tube Co., Ltd.
Tianguan Yuantong Pipe Product Co., Ltd.
Tianjin Jinggong Special Petroleum Pipe Fittings Co., Ltd.
Tianjin Laibide Trade Co., Ltd.
Tianjin Pipe (Group) Co., Ltd.
Tianjin Pipe International Economic and Trading Corporation
Tianjin Pipe Iron Manufacturing Co., Ltd.
Tianjin Shenzhoutong Steel Pipe Co., Ltd.
TPCO Charging Development Co., Ltd.
Tusco International Inc.
Vinto Industrial Co., Ltd.
Wellhead Solutions Co., Ltd.
Wenzhou Sunrise Import Export Co., Ltd.
Wonderful Metals Limited
Worldcross Industries Co., Ltd
Wuxi Eastsun Trade Co., Ltd.
Wuxi Free Petroleum Tubulars Manufacture Co., Ltd.
Wuxi OFD Oil-Field Supply Co., Ltd.
Wuxi Seamless Oil Pipe Co., Ltd.
Xigang Seamless Steel Tube Co., Ltd.
Xuzhou E&P Petroleum Equipment Co., Ltd.
Xuzhou Oilfield Equipment. Co., Ltd.
Xuzhou Taifeng Oilwell Products Co., Ltd.
Yangzhou Chengde Steel Pipe Co., Ltd.
Yangzhou Lontrin Steel Tube Co., Ltd.
Yingkou Meihong Pipe Fittings Co., Ltd.
Zhangjiagang City ShengDingYuan Pipe-Making Co., Ltd.
Zhangjiagang Hua Dong Boiler Co., Ltd.
Zhangjiagang Huacheng Import and Export Co., Ltd.
Zhangjiagang Maitan Metal Products Co., Ltd.
Zhangjiagang Titan Impt & Expt Co., Ltd.
Zhejiang Bnjis Stainless Steel Co., Ltd
Zhejiang E-TUNE Special Steel. Tube Co., Ltd.
Zhejiang Gaosheng Pipe Industry Co., Ltd.
Zhejiang Gross Seamless Steel Tube Co., Ltd.
Zhejiang Jianli Enterprise Co., Ltd.
Zhejiang Jianli Industry Group Co., Ltd.
Zhejiang Jianli Steel Steel Tube Co., Ltd.
Zhejiang Jiuli Hi-Tech Metals Co., Ltd.
Zhejiang Minghe Steel Pipe Co., Ltd.
Zhejiang Tsingshan Steel Pipe Co., Ltd.
Zhejiang Zhongli Stainless Steel Pipe Co., Ltd.
ZhongXing Energy Enquipment Co., Ltd.
Zhuji Jiansheng Machinery Co., Ltd.
Zibo Freet Thermal Tech Co., Ltd.
The People's Republic of China: Pure Magnesium, A-570-832 | 5/1/18-4/30/19
Tianjin Magnesium International Co., Ltd.
Tianjin Magnesium Metal Co., Ltd.
Turkey: Carbon and Alloy Steel Wire Rod, A-489-831 | 10/31/17-4/30/19
Icdas Celik Enerji Tersane ve Ulasim Sanayi A.S.
Turkey: Circular Welded Carbon Steel Pipes and Tubes, A-489-501 | 5/1/18-4/30/19
Borusan Birlesik Boru Fabrikalari San ve Tic.
Borusan Gemlik Boru Tesisleri A.S.
Borusan Holding
Borusan Ihracat Ithalat ve Dagitim A.S.
Borusan Istikbal Ticaret
Borusan Ithicat ve Dagitim A.S.
Borusan Mannesmann Boru Sanayi ve Ticaret A.S.
Borusan Mannesmann Yatirim Holding
Borusman Istikbal Ticaret T.A. S.
Cayirova Boru Sanayi ve Ticaret A.S.
Cinar Boru Profil San. Ve Tic. A.S. Erbosan Erciyas Boru Sanayi ve Ticaret A.S.
Kale Baglann Teknolojileri San. Ve Tic. A.S.
Kale Baglanti Teknolojileri San. ve Tic. A.S.
Noksel Celik Boru Sanayi A.S.
Toscelik Metal Ticaret A.S.
Toscelik Profil ve Sac Endustrisi A. S.
Tosyali Dis Ticaret A.S
Tubeco Pipe and Steel Corporation
Yucel Boru ve Profil Endustrisi A.S.
Yucelboru Ihracat Ithalat ve Pazarlama A.S.
Turkey: Light-Walled Rectangular Pipe and Tube, A-489-815 | 5/1/18-4/30/19
Agir Haddecilik A.S.
Cayirova Boru Sanayi ve Ticaret A.S.
Cinar Boru Profil Sanayi ve Ticaret A.S.
MTS Lojistik ve Tasimacilik Hizmetleri Ticaret A.S.
Noksel Celik Boru Sanayi A.S.
Ozdemir Boru Profil Sanayi ve Ticaret Ltd Sti
Toscelik Metal Ticaret A.S.
Toscelik Profil ve Sac Endustrisi A.S.
Tosyali Dis Ticaret A.S.
Yucel Boru ve Profil Endustrisi A.S.
Yucelboru Ihracat Ithalat ve Pazarlama A.S.
United Arab Emirates: Steel Nails, A-520-804 | 5/1/18-4/30/19
Middle East Manufacturing Steel LLC
Venezuela: Silicomanganese, A-307-820 | 5/1/18-4/30/19
Homos Electricos de Venezuela
FerroAtlantica de Venezuela
FerroAtlantica S.A.
Countervailing Duty Proceedings
Republic of Korea: Carbon and Alloy Steel Cut-To-Length Plate, C-580-888 | 1/1/18-12/31/18
BDP International
Blue Track Equipment
Boxco
Bukook Steel Co., Ltd.
Buma CE Co., Ltd.
China Chengdu International Techno-Economic Cooperation Co., Ltd.
Daehan I.M. Co., Ltd.
Daelim Industrial Co., Ltd.
Daesam Industrial Co., Ltd.
Daesin Lighting Co., Ltd.
Daewoo International Corp.
Dong Yang Steel Pipe
Dongbu Steel Co., Ltd.
Dongkuk Industries Co., Ltd.
Dongkuk Steel Mill Co., Ltd.
EAE Automotive Equipment
EEW KHPC Co., Ltd.
Eplus Expo Inc.
GS Global Corp.
Haem Co., Ltd.
Han Young Industries
Hyosung Corp.
Hyundai Steel Co.
Jinmyung Frictech Co., Ltd.
Kindus Inc.
Korean Iron and Steel Co., Ltd.
Kyoungil Precision Co., Ltd.
POSCO
Samsun C&T Corp.
Shipping Imperial Co., Ltd.
Sinchang Eng Co., Ltd.
SK Networks Co., Ltd.
SNP Ltd.
Steel N People Ltd.
Summit Industry
Sungjin Co., Ltd.
Young Sun Steel
The People's Republic of China: 1-Hydroxyethylidene-1, 1-Diphosphonic Acid (HEDP), C-570-046 | 1/1/18-12/31/18
Henan Qingshuiyuan Technology Co., Ltd
Shandong Taihe Chemicals Co., Ltd. and Shandong Taihe Water Treatment Technologies Co., Ltd.
The People's Republic of China: Aluminum Extrusions, C-570-968 | 1/1/18-12/31/18
Aero Import and Export Co.
Activa International Inc.
Activa Leisure Inc.
Agilent Technologies Co. Ltd (China)
Allied Maker Limited
Alnan Aluminum Co., Ltd.
Alnan Aluminum Ltd.
Aluminicaste Fundicion de Mexico
AMC Ltd.
AMC Limited
Anji Chang Hong Chain Manufacturing
Anshan Zhongjda Industry Co., Ltd
Aoda Aluminium (Hong Kong) Co., Limited
Atlas Integrated Manufacturing Ltd.
Bath Fitter
Behr-Hella Thermocontrol (Shanghai) Co. Ltd.
Belton (Asia) Development Ltd.
Belton (Asia) Development Limited
Birchwoods (Lin'an) Leisure Products Co., Ltd.
Bolnar Hong Kong Ltd.
Bracalente Metal Products (Suzhou) Co., Ltd.
Brilliance General Equipment Co., Ltd.
AsiaAlum Group
Chang shu Changshen Aluminum Products Co., Ltd.
Changzhou Changzhen Evaporator Co., Ltd.
Changzhou Tenglong Auto Parts Co., Ltd.
Changzhou Tenglong Auto Accessories Manufacturing Co. Ltd
Changzhou Tenglong Auto Parts Co Ltd.
China Square
China Square Industrial Co.
China Square Industrial Ltd
China Zhongwang Holdings, Ltd.
Chiping One Stop Industrial & Trade Co., Ltd.
Classic & Contemporary Inc.
Clear Sky Inc.
Coclisa S.A. de C.V.
Cosco (J.M.) Aluminum Co., Ltd.
Cosco (JM) Aluminum Development Co. Ltd
CRRC Changzhou Auto Parts Co., Ltd.
Dalian Huacheng Aquatic Products
Dalian Liwang Trade Co., Ltd.
Danfoss Micro Channel Heat Exchanger (Jia Xing) Co., Ltd.
Daya Hardware Co Ltd
Dongguan Aoda Aluminum Co., Ltd.
Dongguan Dazhan Metal Co., Ltd.
Dongguan Golden Tiger Hardware Industrial Co., Ltd.
Dongguang Aoda Aluminum Co., Ltd.
Dragonluxe Limited
Dynabright International Group (HK) Ltd.
Dynamic Technologies China
ETLA Technology (Wuxi) Co. Ltd
Ever Extend Ent. Ltd.
Fenghua Metal Product Factory
First Union Property Limited
FookShing Metal & Plastic Co. Ltd.
Foreign Trade Co. of Suzhou New & High-Tech Industrial Development Zone
Foshan City Nanhai Hongjia Aluminum Alloy Co., Ltd.
Foshan Golden Source Aluminum Products Co., Ltd.
Foshan Guangcheng Aluminium Co., Ltd
Foshan Jinlan Aluminum Co. Ltd.
Foshan JinLan Aluminum Co., Ltd.
Foshan JMA Aluminum Company Limited
Foshan Nanhai Niu Yuan Hardware Product Co., Ltd.
Foshan Shanshui Fenglu Aluminum Co., Ltd.
Foshan Shunde Aoneng Electrical Appliances Co., Ltd
Foshan Yong Li Jian Aluminum Co., Ltd.
Fujian Sanchuan Aluminum Co., Ltd.
Fukang Aluminum & Plastic Import and Export Co., Ltd.
Fuzhou Sunmodo New Energy Equipment
Gaotang Xinhai Economy & Trade Co., Ltd.
Genimex Shanghai, Ltd.
Global Hi- Tek Precision Co. Ltd
Global PMX Dongguan Co., Ltd.
Global Point Technology (Far East) Limited
Gold Mountain International Development, Ltd.
Golden Dragon Precise Copper Tube Group, Inc.
Gran Cabrio Capital Pte. Ltd.
Gree Electric Appliances
Green Line Hose & Fittings
GT88 Capital Pte. Ltd.
Guang Ya Aluminium Industries (HK) Ltd.
Guang Ya Aluminium Industries Co. Ltd.
Guang Ya Aluminum Industries Company Ltd
Guangcheng Aluminum Co., Ltd
Guangdong Hao Mei Aluminum Co., Ltd.
Guangdong Jianmei Aluminum Profile Company Limited
Guangdong JMA Aluminum Profile Factory (Group) Co., Ltd.
Guangdong Midea
Guangdong Midea Microwave and Electrical Appliances
Guangdong Nanhai Foodstuffs Imp. & Exp. Co., Ltd.
Guangdong Weiye Aluminum Factory Co., Ltd.
Guangdong Whirlpool Electrical Appliances Co., Ltd.
Guangdong Xingfa Aluminum Co., Ltd.
Guangdong Xin Wei Aluminum Products Co., Ltd.
Guangdong Yonglijian Aluminum Co., Ltd.
Guangdong Zhongya Aluminum Company Ltd.
Guangzhou Jangho Curtain Wall System Engineering Co., Ltd.
Guangzhou Mingcan Die-Casting Hardware Products Co., Ltd.
Hangzhou Xingyi Metal Products Co., Ltd.
Hanwood Enterprises Limited
Hanyung Alcoba Co., Ltd.
Hanyung Alcobis Co., Ltd.
Hanyung Metal (Suzhou) Co., Ltd.
Hao Mei Aluminum Co., Ltd.
Hao Mei Aluminum International Co., Ltd.
Hebei Xusen Wire Mesh Products Co., Ltd.
Henan New Kelong Electrical Appliances Co., Ltd.
Henan Zhongduo Aluminum Magnesium New Material Co, Ltd.
Hitachi High-Technologies (Shanghai) Co., Ltd.
Hong Kong Gree Electric Appliances Sales Limited
Hong Kong Modem Non-Ferrous Metal
Honsense Development Company
Hui Mei Gao Aluminum Foshan Co., Ltd.
Huixin Aluminum
IDEX Dinglee Technology (Tianjin) Co., Ltd.
IDEX Health
IDEX Technology Suzhou Co., Ltd.
Innovative Aluminum (Hong Kong) Limited
iSource Asia
Jackson Travel Products Co., Ltd.
Jangho Curtain Wall Hong Kong Ltd.
Jiangmen Jianghai Foreign Ent. Gen.
Jiangmen Jianghai District Foreign Economic Enterprise Corp. Ltd.
Jiangmen Qunxing Hardware Diecasting Co., Ltd.
Jiangsu Changfa Refrigeration Co.
Jiangyin Suncitygaylin
Jiangyin Trust International Inc.
Jiangyin Xinhong Doors and Windows Co., Ltd.
Jiaxing Jackson Travel Products Co., Ltd.
Jiaxing Taixin Metal Products Co., Ltd.
Jiuyan Co., Ltd.
JMA (HK) Company Limited
Johnson Precision Engineering (Suzhou) Co., Ltd.
Justhere Co., Ltd.
Kam Kiu Aluminum Products Sdn Bhd
Kanal Precision Aluminum Product Co., Ltd
Karlton Aluminum Company Ltd.
Kong Ah International Company Limited
Kromet International Inc.
Kromet Inti Inc
Kromet International
Kunshan Giant Light Metal Technology Co., Ltd.
Liaoning Zhong Da Industrial Aluminum Co., Ltd.
Liaoning Zhongwang Group Co., Ltd.
Liaoyang Zhongwang Aluminum Profile Co. Ltd.
Longkou Donghai Trade Co., Ltd.
MAAX Bath Inc.
MAHLE Holding (China) Co., Ltd
Metal Tech Co Ltd
Metaltek Group Co., Ltd.
Metaltek Metal Industry Co., Ltd.
Midea Air Conditioning Equipment Co., Ltd.
Midea Electric Trading Co., Pte Ltd
Midea International Training Co., Ltd.
Midea International Trading Co., Ltd.
Miland Luck Limited
Nanhai Textiles Import & Export Co., Ltd.
New Asia Aluminum & Stainless Steel Product Co., Ltd.
New Zhongya Aluminum Factory
Nidec Sankyo (Zhejang) Corporation
Nidec Sankyo Zhejiang Corporation
Nidec Sankyo Singapore Pte. Ltd.
Ningbo Coaster International Co., Ltd.
Ningbo Hi Tech Reliable Manufacturing Company
Ningbo Innopower Tengda Machinery
Ningbo Ivy Daily Commodity Co., Ltd.
Ningbo Yili Import and Export Co., Ltd.
North China Aluminum Co., Ltd.
North Fenghua Aluminum Ltd.
Northern States Metals
PanAsia Aluminum (China) Limited
PENCOM Dongguan China
Pengcheng Aluminum Enterprise Inc.
Permasteelisa Hong Kong Limited
Permasteelisa South China Factory
Pingguo Aluminum Company Limited
Pingguo Asia Aluminum Co., Ltd.
Popular Plastics Company Limited
Precision Metal Works Ltd.
Press Metal International Ltd.
Qingdao Sea Nova Building
Samuel, Son & Co., Ltd.
Sanchuan Aluminum Co., Ltd.
Sanhua (Hangzhou) Micro Channel Heat Exchanger Co., Ltd
Shandong Fukang Aluminum & Plastic Co. LTD
Shandong Huajian Aluminum Group
Shangdong Huasheng Pesticide Machinery Co.
Shangdong Nanshan Aluminum Co., Ltd.
Shanghai Automobile Air Conditioner Accessories Ltd.
Shanghai Automobile AirConditioner Accessories Co Ltd
Shanghai Canghai Aluminum Tube Packaging Co., Ltd
Shanghai Dofiberone Composites Co. Ltd.
Shanghai Dongsheng Metal
Shanghai Shen Hang Imp & Exp Co., Ltd.
Shanghai Tongtai Precise Aluminum Alloy Manufacturing Co. Ltd.
Shanghai Top-Ranking Aluminum Products Co., LTD
Shanghai Top-Ranking New Materials Co., Ltd.
Shenyang Yuanda Aluminum Industry Engineering Co. Ltd.
Shenzhen Hudson Technology Development Co.
Shenzhen Jiuyuan Co., Ltd.
Sihui Shi Guo Yao Aluminum Co., Ltd.
Sincere Profit Limited
Skyline Exhibit Systems (Shanghai) Co. Ltd.
Southwest Aluminum (Group) Co., Ltd.
Springs Window Fashions De Victoria
Summit Heat Sinks Metal Co, Ltd
Summit Plastics Nanjing Co. Ltd
Suzhou JRP Import & Export Co., Ltd.
Suzhou New Hongji Precision Part Co.
Tai-Ao Aluminum (Taishan) Co. Ltd.
Taishan City Kam Kiu Aluminium Extrusion Co., Ltd.
Taitoh Machinery Shanghai Co Ltd
Taizhou United Imp. & Exp. Co., Ltd.
tenKsolar (Shanghai) Co., Ltd.
Tiailjin Ganglv Nonferrous Metal Materials Co., Ltd.
Tianjin Jinmao Import & Export Corp., Ltd.
Tianjin Ruxin Electric Heat Transmission Technology Co., Ltd.
Tianjin Xiandai Plastic & Aluminum Products Co., Ltd.
Tiazhou Lifeng Manufacturing Corporation
Taizhou Lifeng Manufacturing Co., Ltd.
Top-Wok Metal Co., Ltd.
Traffic Brick Network, LLC
Union Aluminum (SIP) Co.
Union Industry (Asia) Co., Ltd.
USA Worldwide Door Components (Pinghu) Co., Ltd.
Wenzhou Shengbo Decoration & Hardware
Wenzhou Yongtai Electric Co., Ltd.
Whirlpool (Guangdong)
Whirlpool Canada L.P.
Whirlpool Microwave Products Development Ltd.
Wonjin Autoparts
Worldwide Door Components, Inc.
WTI Building Products, Ltd.
Wuxi Lutong Fiberglass Doors Co., Ltd.
XinWei Aluminum Co.
Xin Wei Aluminum Company Limited
Xinchang Yongqiang Air Conditioning Accessories Co., Ltd.
Xinya Aluminum & Stainless Steel Product Co., Ltd.
Yuyao Haoshen Import & Export
Yuyao Fanshun Import & Export Co., Ltd.
Zahoqing China Square Industry Limited
Zhaoqing China Square Industry Limited
Zhaoqing Asia Aluminum Factory Company Ltd.
Zhaoqing China Square Industrial Ltd.
Zhaoqing New Zhongya Aluminum Co., Ltd.
Zhejiang Anji Xinxiang Aluminum Co., Ltd.
Zhejiang Lilies Industrial and Commercial Co
Zhejiang Yili Automobile Air Condition Co., Ltd
Zhejiang Yongkang Listar Aluminum Industry Co., Ltd.
Zhejiang Zhengte Group Co., Ltd.
Zhenjiang Xinlong Group Co., Ltd.
Zhongshan Daya Hardware Co., Ltd.
Zhongshan Gold Mountain Aluminum Factory Ltd.
Zhongya Shaped Aluminum (HK) Holding Limited
Zhuhai Runxingtai Electrical Equipment Co., Ltd.
The People's Republic of China: Aluminum Foil,⁷ C-570-054 | 8/14/17-12/31/18
The People's Republic of China: Certain Amorphous Silica Fabric,⁸ C-570-039 | 1/1/18-12/31/18
Beijing Landingji Engineering Tech Co., Ltd.
Haining Jiete Fiberglass Fabric Co., Ltd.
Nanjing Tianyuan Fiberglass Material Co., Ltd.
Wallean Industries Co., Ltd.
Zibo Yao Xing Fire-Resistant and Heat Preservation Material Co., Ltd.
Turkey: Carbon and Alloy Steel Wire Rod, C-489-832 | 9/5/17-12/31/18
Icdas Celik Enerji Tersane ve Ulasim Sanayi A.S.
Suspension Agreements
None.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

⁵ In the less-than-fair-value investigation, Commerce treated these companies as a single entity. See, e.g., Certain Carbon and Alloy Steel Cut-To-Length Plate from the Republic of Korea: Final Determination of Sales at Less Than Fair Value and Final Negative Critical Circumstances Determination, 82 FR 16369 (April 4, 2017) (Final Determination). Absent information to the contrary, we intend to continue to treat these companies as a single entity for purposes of this administrative review.

⁶ The companies listed below were misspelled in the initiation notice that published on May 29, 2019 (84 FR 24743). On June 3, 2019 Commerce received a request to correct the misspelled company names listed on the administrative review request letter. The correct spellings of the company names are listed in this notice.

⁷ In the initiation notice that published on June 13, 2019 (84 FR 27587) Commerce inadvertently listed the wrong period of review for referenced case above. The correct POR is listed in this notice.

⁸ The companies listed below were misspelled in the initiation notice that published on May 29, 2019 (84 FR 24743). On June 3, 2019 Commerce received a request to correct the misspelled company names listed on the administrative review request letter. The correct spellings of the company names are listed in this notice.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁹ Parties are hereby reminded that revised certification requirements are in effect for company/government officials as well as their representatives. All segments of any antidumping duty or countervailing duty proceedings initiated on or after August 16, 2013, should use the formats for the revised certifications provided at the end of the Final Rule.¹⁰ Commerce intends to reject factual submissions in any proceeding segments if the submitting party does not comply with applicable revised certification requirements.

⁹ See section 782(b) of the Act.

¹⁰ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: June 9, 2019.
James Maeder,
Deputy Assistant Secretary for Antidumping and Countervailing Duty Operations.

[FR Doc. 2019-14951 Filed 7-12-19; 8:45 am]

BILLING CODE 3510-DS-P